DEPARTMENT OF HEALTH AND HUMAN SERVICES

Health Resources and Services Administration

Title III Early Intervention Services Program, Existing Geographic Areas (EISEGA); CFDA 93.918; HRSA 04-005

AGENCY: Health Resources and Services Administration, HHS.

ACTION: Notice of availability of funds.

SUMMARY: The Health Resources and Services Administration (HRSA) announces the anticipated availability of fiscal year (FY) 2004 funds to be awarded under the Ryan White Comprehensive AIDS Resources Emergency (CARE) Act Title III Early Intervention Services (EIS) Program for existing geographic areas to support outpatient HIV early intervention and primary care services for low-income, medically underserved people in existing primary care systems. Grants will be awarded for a 3-year period.

Program Purpose: The purpose of this funding is to provide, on an ongoing outpatient basis, high quality, culturally competent, early intervention services/primary care to individuals with HIV infection. This is accomplished by increasing the present capacity and capability of eligible ambulatory health services entities. These expanded services become a part of a continuum of HIV prevention and care for individuals who are at risk for HIV infection or are HIV infected.

Program Requirements: As described in section 2651(b) of the Public Health Service Act, funded programs must provide the following services on an outpatient basis:

(A) Counseling individuals with respect to HIV disease;

(B) Testing individuals with respect to HIV disease, including tests to confirm the presence of the disease, tests to diagnose the extent of the deficiency in the immune system, and tests to provide information on appropriate therapeutic measures for preventing and treating the deterioration of the immune system and for preventing and treating conditions arising from the disease;

(C) Referrals of individuals with HIV disease to appropriate providers of health and support services;

(D) Other clinical and diagnostic services regarding HIV disease and periodic medical evaluations of individuals with the disease; and,

(E) Providing therapeutic measures as described in (B).

Funded programs must provide the proposed services directly and/or through formal agreements with public or nonprofit private entities. They may also provide services through agreements with private for-profit entities if such entities are the only available providers of quality HIV care in the area. A minimum of 50 percent of funds awarded MUST be spent on primary care services as described in items B-E above. No more than 10 percent of funds awarded may be spent on administration, including planning and evaluation.

Eligible Applicants: Applicants are limited to public or private nonprofit entities that are currently funded under the Title III program whose project periods expire in FY 04 and other public or private nonprofit organizations, which meet the qualifications as described in section 2652(a) of the PHS Act, proposing to serve the same populations currently being served by these existing projects. Faith-based and community-based organizations which meet these qualifications are eligible to apply. The available service areas are:

State and Service Areas of Project Periods Ending 12/31/03 and 3/31/04

AL AUTAUGA; LOWNDES; BUTLER; DALLAS; CHILTON; ELMORE; MACON; BULLOCK; LEE; RUSSELL; PIKE; BARBOUR; DALE; GENEVA; HOUSTON; CRENSHAW; CONECUH; COFFEE; CHAMBERS; TALLAPOOSA; WILCOX; MONROE; PERRY, CALHOUN; CHAMBERS; CLEBURNE; COOSA; CLAY; CHEROKEE; DEKALB; ETOWAH; RANDOLPH; TALLADEGA; TALLAPOOSA, COLBERT; CULLMAN; FRANKLIN; JACKSON; LAUDERDALE; LAWRENCE; LIMESTONE; MADISON; MARION; MARSHALL; MORGAN; WINSTON, MOBILE; BALDWIN

AZ PIMA; TUCSON, MARICOPA; YAVAPAI; GILA; PINAL

CA SAN BERNARDINO, SAN FRANCISCO, SAN JOAQUIN; SOLANO; YOLO; CALAVERAS, LOS ANGELES, ALAMEDA, SAN FERNANDO VALLEY, SANTA CLARA, SANTA CRUZ; MONTEREY, ORANGE, NORTH SAN DIEGO COUNTY

DC DISTRICT OF COLUMBIA

FL DADE; MIAMI, MIAMI BEACH; SOUTH BEACH; NORTHSIDE; NORMANDY ISLE, MONROE; KEY WEST; MARATHON; TAVENIER

GA BULLOCH; CANDLER; EVANS; TOOMBS; TATTNALL; JEFF DAVIS; APPLING; WAYNE; COFFEE; BACON; PIERCE; BRANTLEY; ATKINSON; WARE; CHARLTON; CLINCH, FULTON; DEKALB, BURKE; COLUMBIA; EMANUEL; GLASCOCK; JEFFERSON; JENKINS; LINCOLN; MCDUFFIE; RICHMOND; SCREVEN; TALIAFERRO; WARREN; WILKES, CHATHAM; EFFINGHAM; LIBERTY; BRYAN; GLYNN, FULTON, BALDWIN; BIBB; CRAWFORD; HANCOCK; HOUSTON; JASPER; JONES; MONROE; DEKALB; PUTNAM; TWIGGS; WASHINGTON; WILKINSON, BUTTS; CARROLL; COWETA; FAYETTE; HEARD; LAMAR; MERIWETHER; PIKE; SPALDING; TROUP; UPSON

HI MAUI; WAIKIKI

IL COOK, WINNEBAGO; JO DAVIESS; STEPHENSON; WHITESIDE; LEE; OGLE; BOONE; MCHENRY; DEKALB

IN MARION

KS SEDGWICK; CHEYENNE; RAWLINS; DECATUR; NORTON; SMITH; JEWELL; REPUBLIC; SHERMAN; THOMAS; SHERIDAN; GRAHAM; ROOKS; OSBORNE; MITCHELL; CLOUD; WALLACE; LOGAN; GOVE; TREGO; ELLIS; RUSSELL; LINCOLN; OTTAWA; BARTON; ELLSWORTH; SALINE; RICE; MCPHERSON; DICKINSON; MARION; STAFFORD; RENO; HARVEY; PRATT; KINGMAN; BUTLER; GREENWOOD; GREELEY; WICHITA; SCOTT; LANE; NESS; RUSH; HAMILTON; KEARNY; FINNEY; HODGEMAN; PAWNEE; STANTON; GRANT; HASKELL; GRAY; FORD; KIOWA; EDWARDS; MORTON; STEVENS; SEWARD; MEADE; CLARK; COMANCHE; BARBER; HARPER; SUMNER; COWLEY; CHAUTAUQUA; ELK; CHASE; WOODSON; ANDERSON; LINN; ALLEN; BOURBON; WILSON; NEOSHO; CRAWFORD; MONTGOMERY; LABETTE; CHEROKEE, JOHNSON; WYANDOTTE; MIAMI; LEAVENWORTH

LA CALCASIEU; ALLEN; BEAUREGARD; CAMERON; JEFFERSON DAVIS;WASHINGTON

MA HAMPDEN; FRANKLIN

MI KENT; LAKE; IONIA; MUSKEGON; OCEANA; NEWAYGO; MASON; MANISTEE

MI WAYNE; OAKLAND; MACOMB; LAPEER; ST. CLAIR; MONROE

MO VERNON; BARTON; JASPER; NEWTON; MCDONALD; CEDAR; ST. CLAIR; DADE; LAWRENCE; BARRY; HICKORY; POLK; GREENE; CHRISTIAN; STONE; TANEY; DALLAS; WEBSTER; DOUGLAS; OZARK; LACLEDE; WRIGHT; PULASKI; TEXAS; HOWELL; PHELPS; DENT; SHANNON; OREGON, JACKSON; CLAY; RAY; PLATTE; CASS; CLINTON; LAFAYETTE

MS ATTALA; BOLIVAR; CARROLL; HOLMES; HUMPHREYS; LEFLORE; MONTGOMERY; SUNFLOWER; COAHOMA; TUNICA; DESOTO; TATE; PANOLA; QUITMAN; TALLAHATCHIE; SUNFLOWER; COVINGTON; ISSAQUENA; JONES; HUMPHREYS; HOLMES; WAYNE; SHARKEY; YAZOO; WARREN; LAMAR; CLAIBORNE; HINDS; MADISON; FORREST; PERRY; ATTALA; COPIAH; GREENE; RANKIN; SIMPSON; PEARL RIVER; LEAKE; NESHOBA; STONE; KEMPER; SCOTT; NEWTON; GEORGE; LAUDERDALE; SMITH; JASPER; CLARKE; JEFFERSON DAVIS

NC AVERY; BUNCOMBE; HAYWOOD; HENDERSON; MADISON; MITCHELL; MCDOWELL; RUTHERFORD; TRANSYLVANIA; POLK; YANCEY, ALAMANCE; CASWELL; CHATHAM; DAVIDSON; DAVIE; FORSYTH; GUILFORD; LEE; ORANGE; RANDOLPH; ROCKINGHAM; STOKES; SURRY; YADKIN, FRANKLIN; VANCE; WARREN; GRANVILLE; PERSON

NJ ESSEX; UNION

NM BERNALILLO; CIBOLA; MCKINLEY; SANDOVAL; SAN JUAN; VALENCIA; TORRANCE; SOCORRO, DONA ANA; OTERO; SIERRA; LUNA; HIDALGO; GRANT; CATRON; DEBACA; ROOSEVELT; LINCOLN; CHAVES; LEA; EDDY; GUADALUPE

NV WASHOE, CLARK

NY ERIE; CHAUTAUQUA; NIAGARA; CATTARAUGUS; WYOMING; ALLEGANY; ORLEANS; GENESEE, NEW YORK, BRONX; STATEN ISLAND, MANHATTAN; NEW YORK, KINGS, LIVINGSTON; MONROE; ONTARIO; SENECA; YATES; CHEMUNG; SCHUYLER; STEUBEN, QUEENS

OH HAMILTON; CLERMONT; BROWN; BUTLER; KENTON; HIGHLAND; FAYETTE; CLINTON; WARREN; CAMPBELL; BOONE; GRANT; KENTUCKY; OHIO; ADAMS, CUYAHOGA; LORAIN; ASHTABULA; LAKE

OK ADAIR; CHEROKEE; CRAIG; CREEK; DELAWARE; HASKELL; LATIMER; LE FLORE; MAYES; MCINTOSH; MUSKOGEE; NOWATA; OKFUSKEE; OKMULGEE; OSAGE; OTTAWA; PAWNEE; PITTSBURG; ROGERS; SEQUOYAH; TULSA; WAGONER; WASHINGTON

PA PHILADELPHIA, LEHIGH; NORTHAMPTON, BEAVER; BUTLER; ARMSTRONG; INDIANA; CAMBRIA; SOMERSET; WESTMORELAND; FAYETTE; GREENE; WASHINGTON

PR SAN JUAN, HUMACAO; CAGUAS; NAGUABO; SAN LORENZO; LAS PIEDRAS; GURABO; JUNCOS; FAJARDO

RI BRISTOL; KENT; NEWPORT; PROVIDENCE; WASHINGTON

TX COLLIN; DALLAS; DENTON; ELLIS; HENDERSON; HUNT; KAUFMAN; ROCKWALL; DENTON; JOHNSON; PARKER; TARRANT, HARRIS, BASTROP; BLANCO; BURNET; CALDWELL; FAYETTE; HAYS; LEE; LLANO; TRAVIS; WILLIAMSON, ERATH; SOMERVELL; PALO PINTO; JOHNSON; HOOD; DENTON; NAVARRO; WISE; ELLIS; ROCKWALL; HUNT; TAYLOR; SHACKELFORD; RUNNELS; THROCKMORTON

UT BEAVER; BOX ELDER; CACHE; CARBON; DAGGETT; DAVIS; DUCHESNE; EMERY; GARFIELD; GRAND; IRON; JUAB; KANE; MILLARD; MORGAN; PIUTE; RICH; SALT LAKE; SAN JUAN; SANPETE; SEVIER; SUMMIT; TOOELE; UINTAH; UTAH; WASATCH; WASHINGTON; WAYNE; WEBER

State and Service Area of Project Periods Ending 6/30/04 or 9/29/04

AK MUNICIPALITY OF ANCHORAGE

AR ARKANSAS; ASHLEY; CHICOT; DESHA; DREW; JEFFERSON; LINCOLN; PULASKI; LONOKE; PRAIRIE, CRITTENDEN; CROSS; LEE; MISSISSIPPI; MONROE; ST. FRANCIS; WOODRUFF

CA LOS ANGELES; KERN

CT NEW HAVEN; FAIRFIELD

FL BROWARD; ST. LUCIE; MARTIN; FT. PIERCE; INDIANTOWN; COLLIER

IA IOWA, DALLAS; POLK; WARREN, BUREAU; APPANOOSE; CEDAR; CLINTON; DAVIS; DES MOINES; HENRY; IOWA; JACKSON; JEFFERSON; JOHNSON; KEOKUK; LEE; LOUISA; MAHASKA; MONROE; MUSCATINE; POWESHIEK; SCOTT; VAN BUREN; WAPELLO; WASHINGTON; HANCOCK; WARREN; HENDERSON; KNOX; MCDONOUGH; MERCER; ROCK ISLAND; WHITESIDE

ID ADA; BOISE; ELMORE; VALLEY; OWYHEE; CANYON; GEM; PAYETTE; WASHINGTON; ADAMS; BUTTE; BINGHAM; POWER; BANNOCK; CARIBOU; ONEIDA; FRANKLIN; BEAR LAKE

KY PIKE

LA WASHINGTON

MA BARNSTABLE; PLYMOUTH; WORCESTER; SUFFOLK; NORFOLK

MI WAYNE

MS BOLIVAR; SUNFLOWER; WASHINGTON; LA

MT BEAVERHEAD; BIG HORN; BLAINE; BROADWATER; CARBON; CARTER; CASCADE; CHOUTEAU; CUSTER; DANIELS; DAWSON; DEER LODGE; FALLON; FERGUS; FLATHEAD; GALLATIN; GARFIELD; GLACIER; GOLDEN VALLEY; GRANITE; HILL; JUDITH BASIN; LAKE; LEWIS AND CLARK; LIBERTY; LINCOLN; MCCONE; MADISON; MEAGHER; MINERAL; MISSOULA; MUSSELSHELL; PARK; PETROLEUM; PHILLIPS; PONDERA; POWELL; PRAIRIE; RAVALLI; ROOSEVELT; ROSEBUD; SANDERS; SILVER BOW; STILLWATER; SWEET GRASS; TETON; TOOLE; TREASURE; VALLEY; WHEATLAND; WIBAUX; YELLOWSTONE; YELLOWSTONE NATIONAL PARK

NC DURHAM; WAKE; ORANGE; GRANVILLE; VANCE

NJ UNION; MONMOUTH; MERCER; MIDDLESEX; SOMERSET; HUNTERDON

NY ALBANY; RENSSELAER; WESTCHESTER; PUTNAM; DUTCHESS; COLUMBIA; ORANGE; ULSTER; BRONX

PA PHILADELPHIA; YORK

PR LARES; BARRANQUITAS; CAMUY; CIALES; CIDRA; COMERIO; COROZAL; FLORIDA; NARANJITO; HATILLO; PATILLAS; OROCOVIS, GURABO; CAGUAS; SAN LORENZO; CIDRA; CAYEY, MAYAGUEZ; SAN SEBASTIAN; WESTERN PUERTO RICO

SC BEAUFORT; HAMPTON; JASPER

TX BEXAR

VA COVINGTON CITY; CLIFTON FORGE CITY; ALLEGHANY; BOTETCOURT; CRAIG; ROANOKE CITY; SALEM CITY; ROANOKE; AMHERST; APPOMATTOX; BEDFORD; BEDFORD CITY; CAMPBELL; LYNCHBURG CITY; BUCHANAN; DICKENSON; RUSSELL; TAZEWELL; DANVILLE CITY; PITTSYLVANIA; FRANKLIN; HENRY; MARTINSVILLE CITY; PATRICK; LEE; NORTON CITY; SCOTT; WISE; BLAND; BRISTOL CITY; CARROLL; GALAX CITY; GRAYSON; SMYTH; WASHINGTON; WYTHE; FLOYD; GILES; PULASKI; RADFORD CITY; AUGUSTA; BATH; HIGHLAND; ROCKBRIDGE; ROCKINGHAM; FREDERICK; PAGE; SHENANDOAH; CLARKE; WARREN; CULPEPER; FAUQUIER; MADISON; ORANGE; RAPPAHANNOCK; ALBERMARLE; FLUVANNA; GREENE; LOUISA; NELSON; CAROLINE; KING GEORGE; SPOTSYLVANIA; STAFFORD

VT ADDISON; BENNINGTON; CALEDONIA; CHITTENDEN; ESSEX; FRANKLIN; GRAND ISLE; LAMOILLE; ORANGE; ORLEANS; RUTLAND; WASHINGTON; WINDHAM; WINDSOR

WI DANE; ADAMS; BUFFALO; CRAWFORD; COLUMBIA; DODGE; GREEN; FOND DU LAC; CALUMET; PEPIN; TREMPEALEAU; JACKSON; LA CROSSE; MONROE; VERNON; GRANT; LAFAYETTE; IOWA; JEFFERSON; SAUK; RICHLAND; JUNEAU; MARQUETTE; WAUSHARA; WAUPACA; WINNEBAGO; SHEBOYGAN; ROCK; GREEN LAKE

Funding Priorities and/or Preferences: HRSA shall give preference to applicants experiencing an increase in the burden of providing services regarding HIV disease, as described in Section 2653 of the PHS Act. Under section 2653(d), of the applicants who qualify for preference under this section, (1) HRSA shall give preference to applicants that will expend the grant under section 2651 to provide early intervention under such section in rural areas; and (2) HRSA shall give special consideration to areas that are underserved with respect to such services. These may include organizations serving communities of color that are highly affected by HIV/AIDS.

Authorizing Legislation: The EIS program is authorized by section 2651(a) of the Public Health Service Act, as amended (42 U.S.C. 300ff-51)

Availability of Funds: Approximately $71,268,567 will be available for this initiative. HRSA expects to fund approximately 120 grants. These estimates are subject to change if an appropriations act providing otherwise is enacted. The project and budget periods for approved projects will begin on January 1, April 1, July 1 and September 30, 2004. Continuation awards within the project period will be made on the basis of satisfactory progress and the availability of funds.

Application Deadline: Applications for this grant for programs with project periods ending 12/31/03 or 3/31/04 must be received in the HRSA Grants Application Center by close of business July 21, 2003. The applications for this grant for programs with project periods ending 6/30/04 or 9/29/04 must be received by December 22, 2003. New proposals for existing service areas must apply by the same deadline that existing programs serving those areas must meet. Applications shall be considered as meeting the deadline if they are either (1) received on or before the deadline date or (2) postmarked on or before the deadline date, and received in time for submission to the objective review panel. A legible dated receipt from a commercial carrier or the U.S. Postal Service will be accepted instead of a postmark. Private metered postmarks will not be accepted as proof of timely mailing. Grant applications postmarked after the deadline may be returned.

Where to Request and Send an Application: To obtain the official grant application kit (Form PHS-5161-1) and program guidance materials for this announcement call the HRSA Grant Application Center at 877-477-2123 and request the OMB Catalogue of Federal Domestic Assistance number 93.918A, HRSA 04-005, Program Code EISEGA. HRSA anticipates accepting grant applications online in the last quarter of the fiscal year (July through September). Please refer to the HRSA Grants Schedule at http://www.hrsa.gov/grants/ for more information.

ADDRESSES: All applications should be mailed or delivered to HRSA Grant Application Center, 901 Russell Avenue, Suite 450, Gaithersburg, Maryland 20879. Grant applications sent to any other address may be returned. The Internet address for HAB is http://www.hab.hrsa.gov.

FOR FURTHER INFORMATION CONTACT: Additional information related to the program may be requested from the Division of Community Based Programs, HIV/AIDS Bureau, HRSA, 5600 Fishers Lane Room 7A-30, Rockville, Maryland 20857. The telephone number is (301) 443-0493; and the fax number is (301) 443-1884.

SUPPLEMENTARY INFORMATION: Applications will be reviewed by an objective review committee. The review criteria will include: (1) Justification of need, (2) organizational capabilities and experience, (3) coordination and linkage with other HIV programs, (4) adequacy of scope of work for providing early intervention services, (5) work plan, (6) program evaluation, (7) appropriateness and justification of budget, and (8) adherence to program guidance.

There is no matching requirement for this program.

Public Health System Reporting Requirements: Under these requirements (approved under OMB No. 0937-0195), a community-based, non-governmental applicant must prepare and submit a Public Health System Impact Statement to the head of the appropriate State and local health agencies in the area(s) to be impacted no later than the Federal application receipt due date. This statement must include (1) A copy of the face page of the application (SF424) and (2) A summary of the project, not to exceed one page, which provides (a) a description of the population to be served; (b) a summary of the services to be provided; and (c) a description of the coordination planned with the appropriate State and local health agencies.

Executive Order 12372: This program has been determined to be a program which is subject to the provision of Executive Order 12372 concerning intergovernmental review of Federal programs by appropriate health planning agencies, as implemented by 45 CFR part 100. Executive Order 12372 allows States the option of setting up a system for reviewing applications from within their States for assistance under certain Federal programs. The application packages to be made available under this notice will contain a listing of States that have chosen to set up such a review system and will provide a single point of contact (SPOC) in the States for review. Applicants (other than federally-recognized Indian tribal governments) should contact their State SPOC as early as possible to alert them to the prospective applications and receive any necessary instructions on the State process. For proposed projects serving more than one State, the applicant is advised to contact the SPOC of each affected State. The due date for the State process recommendations is 60 days after the application deadline for new and competing awards. The granting agency does not guarantee to “accommodate or explain” for State process recommendations it receives after that date. (See Part 148, Intergovernmental Review of Public Health Service Programs under Executive Order 12372 and 45 CFR part 100 for a description of the review process and requirements).

Dated: May 12, 2003.
Elizabeth M. Duke,
Administrator.

[FR Doc. 03-13915 Filed 6-3-03; 8:45 am]

BILLING CODE 4165-15-P